DEPARTMENT OF THE INTERIOR

Bureau of Land Management

[F-14875-A, F-14875-A2; AK-965-1410-KC-P]

Alaska Native Claims Selection

AGENCY: Bureau of Land Management, Interior.

ACTION: Notice of decision approving lands for conveyance.

SUMMARY: As required by 43 CFR 2650.7(d), notice is hereby given that an appealable decision approving the surface estate in certain lands for conveyance pursuant to the Alaska Native Claims Settlement Act will be issued to Kugkaktlik Limited. The lands are in the vicinity of Kipnuk, Alaska, and are located in:

Lots 6, 8, and 10, U.S. Survey No. 11316, Alaska.

Containing 73.63 acres.

Lot 8, U.S. Survey No. 11340, Alaska.

Containing 7.90 acres.

Lots 5 and 6, U.S. Survey No. 11368, Alaska.

Containing 3.30 acres.

Lots 12, 13, and 14, U.S. Survey No. 11387, Alaska.

Containing 67.79 acres.

Seward Meridian, Alaska

T. 1 S., R. 84 W.,

Secs. 23 to 27, inclusive;

Secs. 33 and 34.

Containing approximately 3,913 acres.

T. 2 S., R. 84 W.,

Secs. 3 to 10, inclusive;

Secs. 16, 17, and 18.

Containing approximately 5,789 acres.

T. 3 S., R. 84 W.,

Secs. 1 to 36, inclusive.

Containing approximately 16,275 acres.

T. 4 S., R. 84 W.,

Secs. 1 to 4, inclusive;

Secs. 9 to 16, inclusive;

Secs. 21 to 28, inclusive.

Containing approximately 8,107 acres.

T. 2 S., R. 85 W.,

Secs. 7 and 8;

Secs. 11 to 15, inclusive;

Secs. 16, 17, and 18;

Sec. 28, those lands formerly within Native allotment application F-18086, Parcel A;

Sec. 33, those lands formerly within Native allotment application F-18081, Parcel B.

Containing approximately 5,409 acres.

T. 3 S., R. 85 W.,

Sec. 6, those lands formerly within Native allotment application F-18080, Parcel B;

Sec. 7, those lands formerly within Native allotment application F-16585, Parcel B.

Containing approximately 160 acres.

T. 4 S., R. 85 W.,

Sec. 1, those lands formerly within Native allotment application F-18159, Parcel B.

Containing approximately 40 acres.

T. 2 S., R. 86 W.,

Sec. 25;

Sec. 28, those lands formerly within Native allotment application F-18110, Parcel A;

Secs. 34, 35, and 36.

Containing approximately 1,927 acres.

T. 3 S., R. 86 W.,

Sec. 32, those lands formerly within Native allotment application F-18089, Parcel C;

Sec. 33, those lands formerly within Native allotment application F-18089, Parcel C.

Containing approximately 78 acres.

T. 4 S., R. 86 W.,

Secs. 14, 15, and 16;

Secs. 21 to 24, inclusive.

Containing approximately 2,121 acres.

Aggregating approximately 43,972 acres.

A portion of the subsurface estate in these lands will be conveyed to Calista Corporation when the surface estate is conveyed to Kugkaktlik Limited. The remaining lands lie within the Kuskokwim National Wildlife Range, renamed the Clarence Rhode National Wildlife Range, January 16, 1961. The subsurface estate in the refuge lands will be reserved to the United States at the time of conveyance. Notice of the decision will also be published four times in the Tundra Drums.

DATES: The time limits for filing an appeal are:

1. Any party claiming a property interest which is adversely affected by the decision shall have until December 1, 2008 to file an appeal.

2. Parties receiving service of the decision by certified mail shall have 30 days from the date of receipt to file an appeal.

Parties who do not file an appeal in accordance with the requirements of 43 CFR Part 4, Subpart E, shall be deemed to have waived their rights.

ADDRESSES: A copy of the decision may be obtained from: Bureau of Land Management, Alaska State Office, 222 West Seventh Avenue, #13, Anchorage, Alaska 99513-7504.

FOR FURTHER INFORMATION, CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Robin Middleton,
Land Law Examiner, Land Transfer Adjudication II.

[FR Doc. E8-26027 Filed 10-29-08; 8:45 am]

BILLING CODE 4310-JA-P